DEPARTMENT OF COMMERCE

International Trade Administration

[A-821-819]

Magnesium Metal From the Russian Federation: Notice of Amended Final Determination of Sales at Less Than Fair Value

AGENCY: Import Administration, International Trade Administration, Department of Commerce.

EFFECTIVE DATE: March 29, 2005.

FOR FURTHER INFORMATION CONTACT: Mark Hoadley or Kimberely Hunt, AD/CVD Operations, Office 6, Import Administration, International Trade Administration, U.S. Department of Commerce, 14th Street and Constitution Avenue, NW., Washington, DC 20230; telephone: (202) 482-4733 or (202) 482-1272.

Amendment to Final Determination

In accordance with sections 735(d) and 777(i)(1) of the Tariff Act of 1930, as amended, (the Act), on February 24, 2005, the Department of Commerce (the Department) published its notice of final determination of sales at less-than-fair value (LTFV) in the investigation of magnesium metal from the Russian Federation. See Magnesium Metal from the Russian Federation: Notice of Final Determination of Sales at Less Than Fair Value, 70 FR 9041 (February 24, 2005) and accompanying Issues and Decision Memorandum, dated February 16, 2005. On March 1, 2005, JSC AVISMA Titanium-Magnesium Works (Avisma) and U.S. Magnesium Corporation, LLC, United Steelworkers of America, Local 8319, and Glass, Molders, Pottery, Plastics and Allied Workers International, Local 374 (collectively, petitioners) filed timely allegations stating that the Department made ministerial errors in the final determination. On March 7, 2005, petitioners and Alcoa, Inc. and Northwest Alloys, Inc. (collectively, Alcoa) filed comments on Avisma's allegations, and Avisma filed comments on petitioners' allegations.

After analyzing parties' comments, we have determined, in accordance with 19 CFR 351.224(e), that we made the following ministerial errors in our calculations performed for the final determination: (1) We used incorrect values for Avisma's international freight and U.S. brokerage and handling expenses; and (2) we incorrectly applied U.S. duties to certain U.S. sales by Avisma.

For a detailed discussion of the ministerial errors listed above, as well as the Department's analysis, see Memorandum from Mark Hoadley, Senior Analyst, AD/CVD Operations, Office 6, to Maria MacKay, Program Manager, AD/CVD Operations, Office 6, concerning Magnesium Metal from the Russian Federation: Analysis of Ministerial Error Allegations for JSC AVISMA Titanium—Magnesium Works (Avisma), dated March 21, 2005, on file in the Central Records Unit, Room B-099 of the main Commerce Building.

Therefore, in accordance with 19 CFR 351.224(e), we are amending the final determination of sales at LTFV in the antidumping duty investigation of magnesium metal from the Russian Federation. The revised dumping margins for the period January 1, 2003, through December 31, 2003 are as follows:

Manufacturer/exporter | Weighted-average margin (percent)
JSC AVISMA Titanium-Magnesium Works | 21.71
Solikamsk Magnesium Works | 18.65
All Others | 21.01

Continuation of Suspension of Liquidation

Pursuant to section 735(c)(1)(B) of the Act, we will instruct U.S. Customs and Border Protection (CBP) to continue to suspend liquidation of all entries of magnesium from the Russian Federation that are entered, or withdrawn from warehouse, for consumption on or after October 4, 2004, the date of publication of the preliminary determination in the Federal Register. We will instruct CBP to require, for each entry, a cash deposit or the posting of a bond equal to the weighted-average dumping margins indicated above. These instructions suspending liquidation will remain in effect until further notice.

This determination is issued and published pursuant to sections 753(d) and 777(i) of the Act.

Dated: March 24, 2005.
Joseph A. Spetrini,
Acting Assistant Secretary for Import Administration.

[FR Doc. 05-6185 Filed 3-28-05; 8:45 am]

BILLING CODE 3510-DS-M